DEPARTMENT OF DEFENSE

Department of the Army

Army Science Board; Notice of Closed Meeting

In accordance with section 10(a)(2) of the Federal Advisory Committee Act (Pub. L. 92-463), an announcement is made of the following Committee Meeting:

Name of Committee: Army Science Board.

Date of Meeting: July 16 through 26, 2001.

Place: Arnold and Mabel Beckmen Center of the National Academies of Sciences and Engineering, Irvine, California.

Summary: The Army Science Board's (ASB) Summer Study Panels on the “Objective Force Soldier/Soldier Systems” will meet for the purpose discussions, report writing, and finalizing briefings for their respective sponsors. As this session is for the purpose of coming together and compiling gathered information related to the FY2001 Summer Study with the ultimate goal of outbriefing the Army Leadership and because the proprietary matters to be discussed are so inextricably intertwined, this precludes opening any portion of these meetings to the public. For further information, please contact Everett R. Gooch at (703) 604-7479.

Wayne Joyner,
Executive Assistant, Army Science Board.

FY 01 SS Report Writing Session Agenda

Monday 16 July

8-8:30 a.m.—General Orientation.

8-8:30 a.m.—Report Writing Session (Proprietary).

Tuesday 17 July

8 a.m.-5 p.m.—Report Writing Session. (Proprietary)

Wednesday 18 July

8 a.m.-5 p.m.—Report Writing Session. (Proprietary)

Thursday 19 July

8 a.m.-5 p.m.—Report Writing Session. (Proprietary)

Friday 20 July

8 a.m.-5 p.m.—Report Writing Session. (Proprietary)

Saturday 21 July and Sunday 22 July

Report Writing Session as needed. (Proprietary)

Monday 23 July

8 a.m.-5 p.m.—Report Writing Session. (Proprietary)

Tuesday 24 July

8 a.m.-5 p.m.—Report Writing Session. (Proprietary)

Wednesday 25 July

8 a.m.-5 p.m.—Report Writing Session. (Proprietary)

Thursday 26 July

8 a.m.-5 p.m.—Report Writing Session. (Proprietary)

8 a.m.-5 p.m.—Briefout to the CSA, Sponsors and invited guest. (Proprietary)

[FR Doc. 01-13650 Filed 5-30-01; 8:45 am]

BILLING CODE 3710-08-M------